DEPARTMENT OF HOMELAND SECURITY

Federal Emergency Management Agency

[Docket ID FEMA-2016-0002; Internal Agency Docket No. FEMA-B-1638]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before November 21, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1638, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: August 3, 2016.
Roy E. Wright,
Deputy Associate Administrator for Insurance and Mitigation, Department of Homeland Security, Federal Emergency Management Agency.

I. Watershed-based studies:

Community | Community map repository address
Lower Kentucky Watershed
Maps Available for Inspection Online at: http://www.fema.gov/preliminaryfloodhazarddata
Anderson County, Kentucky and Incorporated Areas
City of Lawrenceburg | City Hall, 100 North Main Street, Lawrenceburg, KY 40342.
Unincorporated Areas of Anderson County | Anderson County Planning and Zoning Office, 139 South Main Street, Lawrenceburg, KY 40342.
Carroll County, Kentucky and Incorporated Areas
City of Carrollton | Carroll County Emergency Operations Center, 829 Polk Street, Carrollton, KY 41008.
City of Prestonville | Carroll County Emergency Operations Center, 829 Polk Street, Carrollton, KY 41008.
City of Worthville | Carroll County Emergency Operations Center, 829 Polk Street, Carrollton, KY 41008.
Unincorporated Areas of Carroll County | Carroll County Emergency Operations Center, 829 Polk Street, Carrollton, KY 41008.
Clark County, Kentucky and Incorporated Areas
Unincorporated Areas of Clark County | Clark County Courthouse, 34 South Main Street, Winchester, KY 40391.
Franklin County, Kentucky and Incorporated Areas
City of Frankfort | Planning and Building Codes Department, 315 West Second Street, Frankfort, KY 40601.
Unincorporated Areas of Franklin County | Franklin County Fiscal Court, 321 West Main Street, Frankfort, KY 40601.
Garrard County, Kentucky and Incorporated Areas
Unincorporated Areas of Garrard County | Garrard County Courthouse, 15 Public Square, Lancaster, KY 40444.
Henry County, Kentucky and Incorporated Areas
Unincorporated Areas of Henry County | Henry County Courthouse Annex, 19 South Property Road, New Castle, KY 40050.
Jessamine County, Kentucky and Incorporated Areas
City of Nicholasville | City Hall, 517 North Main Street, Nicholasville, KY 40356.
City of Wilmore | City Hall, 335 East Main Street, Wilmore, KY 40390.
Unincorporated Areas of Jessamine County | Jessamine County Courthouse, 101 North Main Street, Nicholasville, KY 40356.
Lexington-Fayette Urban County Government, Kentucky (All Jurisdictions)
Lexington-Fayette Urban County Government | Lexington-Fayette Urban County Government Center, 200 East Main Street, 12th Floor, Lexington, KY 40507.
Madison County, Kentucky and Incorporated Areas
City of Berea | City Hall, 212 Chestnut Street, Berea, KY 40403.
City of Richmond | City Hall, 239 West Main Street, Richmond, KY 40475.
Unincorporated Areas of Madison County | Madison County Courthouse, 101 West Main Street, Richmond, KY 40475.
Mercer County, Kentucky and Incorporated Areas
Unincorporated Areas of Mercer County | The Greater Harrodsburg/Mercer County Planning and Zoning Commission, 109 Short Street, Harrodsburg, KY 40330.
Owen County, Kentucky and Incorporated Areas
City of Gratz | City Hall, 583 Crittenden Street, Gratz, KY 40359.
City of Monterey | City Hall, 35 Worth Street, Monterey, KY 40359.
Unincorporated Areas of Owen County | Owen County Courthouse, 100 North Thomas Street, Owenton, KY 40359.
Scott County, Kentucky and Incorporated Areas
City of Georgetown | Georgetown-Scott County Planning Commission, 230 East Main Street, Georgetown, KY 40324.
Unincorporated Areas of Scott County | Georgetown-Scott County Planning Commission, 230 East Main Street, Georgetown, KY 40324.
Woodford County, Kentucky and Incorporated Areas
City of Midway | City Hall, 101 East Main Street, Midway, KY 40347.
City of Versailles | City Hall, 196 South Main Street, Versailles, KY 40383.
Unincorporated Areas of Woodford County | Woodford County Courthouse, 103 South Main Street, Versailles, KY 40383.
Lower North Canadian Watershed
Maps Available for Inspection Online at: http://www.fema.gov/preliminaryfloodhazarddata
Lincoln County, Oklahoma and Incorporated Areas
Kickapoo Tribe of Oklahoma | Kickapoo Tribe of Oklahoma, Secondary Administration Building, 400 North Highway 102, McLoud, OK 74851.
Unincorporated Areas of Lincoln County | Lincoln County Courthouse, 811 Manvel Avenue, Suite 4, Chandler, OK 74834.

II. Non-watershed-based studies:

Community | Community map repository address
Arapahoe County, Colorado and Incorporated Areas
Maps Available for Inspection Online at: http://www.fema.gov/preliminaryfloodhazarddata
Project: 15-08-1412S Preliminary Date: March 10, 2016
City of Littleton | Public Works Department, 2255 West Berry Avenue, Littleton, CO 80120.
Town of Columbine Valley | Town Hall, 2 Middlefield Road, Columbine Valley, CO 80123.
Unincorporated Areas of Arapahoe County | Arapahoe County Public Works and Development Department, 6924 South Lima Street, Centennial, CO 80112.
City and County of Denver, Colorado
Maps Available for Inspection Online at: http://www.fema.gov/preliminaryfloodhazarddata
Project: 15-08-1412S Preliminary Date: March 10, 2016
City and County of Denver | Public Works Department, 201 West Colfax Avenue, Department 507, Denver, CO 80202.
Morgan County, Utah and Incorporated Areas
Maps Available for Inspection Online at: http://www.fema.gov/preliminaryfloodhazarddata
Project: 12-08-0134S Preliminary Date: March 25, 2016
City of Morgan City | Building Department, 90 West Young Street, Morgan City, UT 84050.
Unincorporated Areas of Morgan County | Morgan County Community Development Department, 48 West Young Street, Morgan City, UT 84050.

[FR Doc. 2016-19905 Filed 8-19-16; 8:45 am]

BILLING CODE 9110-12-P